FEDERAL TRADE COMMISSION

16 CFR Part 259

Guide Concerning Fuel Economy Advertising for New Automobiles

AGENCY: Federal Trade Commission.

ACTION: Final rule.

SUMMARY: The Commission has completed its review of the Guide Concerning Fuel Economy Advertising for New Automobiles (“Fuel Guide”), and announces its decision to retain the Guide.

EFFECTIVE DATE: March 5, 2002.

ADDRESSES: Requests for copies of this document should be sent to the Consumer Response Center, Room 130, Federal Trade Commission, 600 Pennsylvania Avenue NW., Washington, DC 20580. The document is available on the Internet at the Commission's website, http://www.ftc.gov.

FOR FURTHER INFORMATION CONTACT: Willie L. Greene, Investigator, Federal Trade Commission, East Central Region, 1111 Superior Avenue—Suite 200, Cleveland, Ohio 44114, telephone number (216) 236-3406, e-mail <wgreene@ftc.gov>.

SUPPLEMENTARY INFORMATION: As part of the Commission's review of its rules and guides, the Commission published a Federal Register Notice seeking comments about the Fuel Guide's overall costs and benefits, and the continuing need for the Guide.¹ The Fuel Guide, adopted in 1975 and subsequently revised twice,² provides guidance to automobile manufacturers to prevent deceptive advertising and to facilitate the use of fuel economy information in advertising. The Guide advises vehicle manufacturers and dealers how to disclose the established fuel economy of a vehicle, as determined by the Environmental Protection Agency's rules pursuant to the Automobile Information Disclosure Act (15 U.S.C. 2996), in advertisements that make representations regarding the fuel economy of a new vehicle. The disclosure is tied to the claim made in the advertisement. If both city and highway fuel economy claims are made, both city and highway EPA figures should be disclosed. A claim regarding either city or highway fuel economy should be accompanied by the corresponding EPA figure. A general fuel economy claim would trigger disclosure of the EPA city figure, although the advertiser would be free to state the highway figure as well.

¹ 64 FR 19729 (Apr. 22, 1999).

² 40 FR 42003 (Sept. 10, 1975); 43 FR 55747 (Nov. 29, 1978); 60 FR 56230 (Nov. 8, 1995).

The Commission received three comments in response to the Federal Register Notice.³ All three of the comments recommended that the Commission retain the Fuel Guide. Two of the comments supported this recommendation by asserting that the Fuel Guide prevents deceptive or misleading fuel economy advertising and provides consumers with fuel economy numbers that can be used in making comparisons among vehicle models.⁴ One comment also noted that the expense to automobile manufacturers of implementing the Guide is minimal.⁵

³ The Commission's request for public comment elicited comments from: (1) Josephine S. Cooper, Alliance of Automobile Manufacturers, Washington, DC (“AAM”), #00001; (2) James C. Minnis, National Automobile Dealers Association, McLean, VA (“NADA”), #00002 and (3) David Sokol, Houston, TX (“Sokol”) #00003. These comments are on the public record in file number P004243 as document numbers B25589500001 through B25589500003. The comments are available for viewing in Room 130 at the Federal Trade Commission, 600 Pennsylvania Avenue NW., Washington, DC 20580, from 8:30 a.m. to 5:00 p.m., Monday-Friday.

⁴ AAM, #00001; NADA, #00002.

⁵ AAM, #00001.

After review of the Fuel Guide and its effect on the new vehicle industry and purchasers of new vehicles, the Commission concludes that the Fuel Guide is useful to both consumers and the new vehicle industry. The Guide affords clarity in the advertising of fuel economy and therefore should be retained. Price escalation in gasoline and diesel fuels has caused considerable interest and concern in the fuel industry and among consumers. The Commission believes that consumers will continue to benefit from accurate information in the advertising of fuel economy for new vehicles.

The Fuel Guide has been a benefit to consumers, providing fuel economy numbers in advertising that allow meaningful comparisons of different vehicle models. While the benefit to consumers has been great, the cost to vehicle manufacturers of complying with the Guide's provisions has been minimal.

Based on its review, the Commission has concluded that there is a continuing need for the Fuel Guide, which has benefitted both consumers and the new vehicle industry. The Commission therefore has decided to retain the Fuel Guide.

List of Subjects in 16 CFR Part 259

Advertising, Fuel economy, Trade practices.

By direction of the Commission.
Donald S. Clark,
Secretary.

[FR Doc. 02-5125 Filed 3-4-02; 8:45 am]

BILLING CODE 6750-01-M